FEDERAL COMMUNICATIONS COMMISSION

47 CFR Part 52

[CC Docket No. 99-200; CC Docket No. 96-98; FCC 00-429]

Numbering Resource Optimization

AGENCY: Federal Communications Commission.

ACTION: Final rule; announcement of effective date.

SUMMARY: The Federal Communications Commission (FCC or Commission) amended its rules in order to ensure that the numbering resources of the North American Numbering Plan (NANP) are used efficiently, and that all carriers have the numbering resources they need to compete in the rapidly expanding telecommunications marketplace.

DATES: The amendments to 47 CFR 52.15, which contain information collection requirements, are published at 66 FR 9528 (Feb. 8, 2001) and became effective on January 25, 2001.

FOR FURTHER INFORMATION CONTACT: Sanford Williams, (202) 418-2320 or email at swilliam@fcc.gov or Cheryl Callahan at (202) 418-2320 or ccallaha@fcc.gov.

SUPPLEMENTARY INFORMATION: On December 7, 2001, the Commission adopted a report and order to implement strategies designed to improve the efficient use of numbering resources in the NANP, a summary of which was published in the Federal Register. See 66 FR 9528. Sections 52.15(g)(4) and 52.15(k)(1) contain new information collection requirements. We stated that those sections “contain information collections that have not been approved by the Office of Management and Budget (OMB). The Federal Communications Commission will publish a document in the Federal Register announcing the effective date of those sections.” The information collections were approved by OMB on January 25, 2001. See OMB No. 3060-0971. This publication satisfies our statement that the Commission publish a document announcing the effective date of the rules.

List of Subjects in 47 CFR Part 52

Communications common carriers, Telecommunications.

Federal Communications Commission.
Magalie Roman Salas,
Secretary.

[FR Doc. 01-4425 Filed 2-22-01; 8:45 am]

BILLING CODE 6712-01-P